ENVIRONMENTAL PROTECTION AGENCY

[FRL-8244-4]

Notice of Effective Date of the “Agreed Order on Consent and Covenant Not To Sue” and Availability of the “Administrative Record” for the Many Diversified Interests, Inc. Superfund Site Pursuant to the Comprehensive Environmental Response, Compensation, and Liability Act

AGENCY: Environmental Protection Agency.

ACTION: Notice; Effective Date of the “Agreed Order on Consent and Covenant Not to Sue,” and availability of the “Administrative Record.”

SUMMARY: In accordance with Section 122(i) of the Comprehensive Environmental Response, Compensation, and Liability Act, as amended (“CERCLA”), 42 U.S.C. 9622(i), notice is hereby given of the effective date of the “Agreed Order on Consent and Covenant Not to Sue” (Final Agreed Order) with the purchaser (Clinton Gregg Investments, Ltd) of the property and the availability of the “Administrative Record” for Operable Unit 1 (On-Site Soils and Ground Water) of the Many Diversified Interests, Inc. (MDI) Superfund Site located in Houston, Texas. Under the Final Agreed Order, the purchaser agrees to perform cleanup work on an approximately 36-acre tract it is purchasing known as Operable Unit 1 of the MDI Superfund Site. The Final Agreed Order includes a covenant not to sue pursuant to Sections 106 and 107 of CERCLA, 42 U.S.C. 9606 and 9607, and Section 7003 of the Resource Conservation and Recovery Act (RCRA), 42 U.S.C. 6973. The purchaser also agrees to implement institutional controls.

The Agency published a Federal Register Notice on June 1, 2006, which solicited public review and comment on the proposed Agreed Order. The public comment period ended on July 3, 2006. At the request of the public, the Agency held a public meeting on August 7, 2006, in accordance with Section 7003(d) of RCRA, 42 U.S.C. § 6973(d). The Agency considered all comments received in its decision to finalize and approve the Agreed Order and has prepared a “Responsiveness Summary” which is included in the Administrative Record for the Site.

DATES: The effective date of the Final Agreed Order is September 29, 2006.

ADDRESSES: The Administrative Record, which includes the Final Agreed Order and the Responsiveness Summary, and additional background information relating to the Final Agreed Order are available for public inspection at the Agency's office at 1445 Ross Avenue, Dallas, Texas 75202-2733, and the Site's information repository located at the Fifth Ward Multi-Service Center, 4014 Market Street, Houston TX 77020. A copy of the Final Agreed Order and Responsiveness Summary may be obtained from Rafael Casanova, 6SF-AP, U.S. Environmental Protection Agency, 1445 Ross Avenue, Dallas, Texas 75202-2733, or by calling 214-665-7437, or by electronic mail at casanova.rafael@epa.gov. Requests for information should reference the MDI Superfund Site, Houston, Texas, and EPA Docket Number 06-12-05, and should be addressed to Rafael Casanova at the address listed above.

FOR FURTHER INFORMATION CONTACT: Rafael Casanova (Remedial Project Manager) at the address listed above; or Barbara Nann (Attorney), 1445 Ross Avenue, Dallas, Texas 75202-2733, or call 214-665-2157, or e-mail nann.barbara@epa.gov.

Dated: November 9, 2006.
Lawrence E. Starfield,
Acting Regional Administrator, Region 6.

[FR Doc. E6-19640 Filed 11-20-06; 8:45 am]

BILLING CODE 6560-50-P